DEPARTMENT OF COMMERCE

National Oceanic and Atmospheric Administration

[I.D. 112006E]

Mid-Atlantic Regional Fishery Management Council; Public Meetings

AGENCY: National Marine Fisheries Service (NMFS), National Oceanic and Atmospheric Administration (NOAA), Commerce.

ACTION: Notice of public meetings.

SUMMARY: The Mid-Atlantic Regional Fishery Management Council (Council); its Joint Dogfish Committee; its Ecosystems Committee; and, its Squid, Mackerel, Butterfish Committee will hold public meetings.

DATES: The meetings will be held on Tuesday, December 12, 2006 through Thursday, December 14, 2006. See SUPPLEMENTARY INFORMATION for specific dates and times and a meeting agenda.

ADDRESSES: This meeting will be held at the Skyline Hotel, 725 10th Ave, New York, New York 10019; telephone: (212) 586-3400.

Council address: Mid-Atlantic Regional Fishery Management Council, 300 S. New Street, Dover, DE 19904; telephone: (302) 674-2331.

FOR FURTHER INFORMATION CONTACT: Daniel T. Furlong, Executive Director, Mid-Atlantic Regional Fishery Management Council; telephone: (302) 674-2331, extension 19.

SUPPLEMENTARY INFORMATION:

Tuesday, December 12, 2006

8 a.m. until 9:30 a.m. - The Joint Dogfish Committee will meet to review actions taken by the Atlantic States Marine Fisheries Commission (ASMFC) regarding dogfish management and their impacts on federal management of dogfish.

9:30 a.m. until 12 noon - The Council will convene jointly with the ASMFC's Summer Flounder, Scup, and Black Sea Bass Board. They will review and discuss the Monitoring Committee's and the Advisory Panel's recommendations on summer flounder recreational management measures, and develop and approve management measures for the 2007 summer flounder recreational fishery.

1 p.m. until 3 p.m. - The Council and the ASMFC will review and discuss the Monitoring Committee's and the Advisory Panel's recommendations on scup recreational management measures and develop and approve management measures for the 2007 scup recreational fishery.

3 p.m. until 5 p.m. - The Council and the ASMFC will review and discuss the Monitoring Committee's and the Advisory Panel's recommendations on black sea bass recreational management measures and develop and approve management measures for the 2007 black sea bass recreational fishery.

7 p.m. until 9 p.m. - The Council will host a public hearing to be convened by the New England Regional Fishery Management Council regarding its Amendment 16 to the Northeast Multispecies Fishery Management Plan (FMP).

Wednesday, December 13, 2006

8 a.m. until 9:30 a.m. - The Ecosystems Committee will meet to: review an initiative to develop a national system of Marine Protected Areas (MPAs), discuss a proposed NMFS Workshop on reducing post-release mortality in recreational fisheries, discuss the ASMFC's establishment of a Multispecies Technical Committee, discuss the Ecosystem-Based Management Tool Network, and discuss the U.S. Navy's Draft Environmental Impact Statement (DEIS) regarding testing of active sonar in federal waters.

9:30 a.m. until 12 noon - The Council and ASMFC will discuss Summer Flounder, Scup, and Black Sea Bass FMP issues. An update will be received on the status of Amendment 14 to the Summer Flounder, Scup, and Black Sea Bass FMP (scup rebuilding plan), they will review the revised list of remaining potential management measures to be addressed in Amendment 15 to the FMP to determine the need for future action, and they will discuss and address the implications and effects of any potential disconnect between specifications set by the Council under Magnuson-Stevens Act (MSA) authority and those set by the ASMFC under the Atlantic Coastal Fisheries Cooperative Management Act (ACFCMA) authority.

1 p.m. until 1:15 p.m. - There will be an awards presentation to recognize the 2006 Fisheries Achievement Award and Ricks E Savage Award winners.

1:15 p.m. until 2:15 p.m. - Meeting two of Framework 1 to the Surfclam / Ocean Quahog FMP will convene to review, select, and approve an alternative for implementation of a Vessel Monitoring System (VMS).

2:15 p.m. until 3 p.m. - A presentation will be received regarding the New England Council's Omnibus Essential Fish Habitat (EFH) Amendment and its relationship to and effects on Framework 4 to the Joint Monkfish FMP. Following this presentation the Council will approve an appropriate range of Monkfish EFH designations.

3 p.m. until 5:30 p.m. - The Council will meet to review and approve final actions on Framework 4 to the Monkfish FMP, and review and approve the Monkfish incidental catch limits in the scallop closed areas.

7 p.m. until 9 p.m. - The Council will host a public hearing to be convened by the NMFS regarding its Omnibus Amendment for Standardized Bycatch Reporting Methodology (SBRM). Note: This hearing was originally scheduled for December 12, 2006 at the same location and time, but was rescheduled to this date, place, and time.

Thursday, December 14, 2006

8 a.m. until 9:30 a.m. - The Squid, Mackerel, and Butterfish Committee will meet regarding Amendment 10 to the Squid, Mackerel, and Butterfish FMP to review and adopt management alternatives for purposes of rebuilding the butterfish stock.

9:30 a.m. - The Council will convene.

9:30 a.m. until 10 a.m. - The Council will receive a presentation regarding a vessel cost survey on fixed costs that is to be incorporated on a voluntary basis in the 2007 vessel permit renewal cycle.

10 a.m. until 2 p.m. - The Council will conduct its regular business session to approve August and October Council meeting minutes, approve actions from the October meeting, receive various organizational reports, receive Committee reports and address any new or continuing business.

Although non-emergency issues not contained in this agenda may come before the Council and its Committees for discussion, these issues may not be the subject of formal Council or Committee action during this meeting. Council and Committee action will be restricted to those issues specifically listed in this notice and any issues arising after publication of this notice that require emergency action under section 305(c) of the Magnuson-Stevens Act provided the public has been notified of the Council's intent to take final actions to address such emergencies.

Special Accommodations

These meetings are physically accessible to people with disabilities. Requests for sign language interpretation or other auxiliary aids should be directed to M. Jan Bryan at (302) 674-2331 extension 18 at least 5 days prior to the meeting date.

Dated: November 20, 2006.
Tracey L. Thompson,
Acting Director, Office of Sustainable Fisheries, National Marine Fisheries Service.

[FR Doc. E6-19955 Filed 11-24-06; 8:45 am]

BILLING CODE 3510-22-S